DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-0165.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Uncompensated Services Assurance Report (OMB No. 0915-0077)—[Extension]

Under the Hill-Burton Act, the Government provides grants and loans for construction or renovation of health care facilities. As a condition of receiving this construction assistance, facilities are required to provide services to persons unable to pay. A condition of receiving this assistance requires facilities to provide periodic assurances that the required level of uncompensated care is being provided, and that certain notification and record keeping procedures are being followed. These standard requirements are referred to as the uncompensated services assurance.

The annual estimate of burden is as follows:

Estimate of Information Collection Burden
Type of requirement and regulatory citation | Number of respondents | Responses per respondent | Total responses | Hours per response | Total burden hours
Disclosure Burden (42 CFR):
Published Notices (124.504(c)) | 63 | 1 | 63 | 0.75 | 47.25
Individual Notices (124.504(c)) | 63 | 1 | 63 | 43.60 | 2,746.80
Determinations of Eligibility (124.507) | 63 | 63 | 3,969 | 0.75 | 2,976.75
SUBTOTAL DISCLOSURE BURDEN |  |  |  |  | 5,770.80

Type of requirement and regulatory citation | Number of respondents | Responses per respondent | Total responses | Hours per response | Total burden hours
Reporting:
Uncompensated Services Report—HRSA-710 Form (124.509(a)) | 10 | 1 | 10 | 11.00 | 110.00
Application for Compliance Alternatives:
Public Facilities (124.513) | 4 | 1 | 4 | 6.00 | 24.00
Small Obligation Facilities (124.514(c)) | 0 |  |  |  |
Charitable Facilities (124.516(c)) | 2 | 1 | 2 | 6.00 | 12.00
Annual Certification for Compliance Alternatives:
Public Facilities (124.509(b)) | 32 | 1 | 32 | 0.50 | 16.00
Charitable Facilities (124.509(b)) | 13 | 1 | 13 | 0.50 | 6.50
Small Obligation Facilities (124.509(c)) | 0 |  |  |  |
Complaint Information (124.511(a)):
Individuals | 10 | 1 | 10 | 0.25 | 2.50
Facilities | 10 | 1 | 10 | 0.50 | 5.00
SUBTOTAL REPORTING BURDEN |  |  |  |  | 176.00

Recordkeeping | Number of record keepers | Hours per year | Total burden hours
Non-alternative Facilities (124.510(a)) | 63 | 50 | 3,150.00
SUBTOTAL RECORDKEEPING BURDEN |  |  | 3,150.00

Email comments to paperwork@hrsa.gov or mail the HRSA Reports Clearance Officer, Room 10-33, Parklawn Building, 5600 Fishers Lane, Rockville, MD 20857. Written comments should be received within 60 days of this notice.

Dated: February 7, 2012.
Reva Harris,
Acting Director, Division of Policy and Information Coordination.

[FR Doc. 2012-3281 Filed 2-10-12; 8:45 am]

BILLING CODE 4165-15-P